INTERNATIONAL TRADE COMMISSION

[Investigation No. 337-TA-602]

In the Matter of Certain GPS Devices and Products Containing Same; Notice of Commission Determination Not To Review an Initial Determination Granting Complainant's Motion To Amend the Complaint and Notice of Investigation

AGENCY: U.S. International Trade Commission.

ACTION: Notice.

SUMMARY: Notice is hereby given that the U.S. International Trade Commission has determined not to review an initial determination (“ID”) (Order No. 16) issued by the presiding administrative law judge (“ALJ”) granting complainant's motion to amend the complaint and notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 7, 2007, based on a complaint filed by Global Locate, Inc. (“Global Locate”). 72 FR 25777 (May 7, 2007). The complaint alleges violations of section 337 of the Tariff Act of 1930 (19 U.S.C. 1337) in the importation into the United States, the sale for importation, and the sale within the United States after importation of certain GPS devices and products containing the same by reason of infringement of claims 1 and 17 of United States Patent No. 6,417,801 (“the ‘801 patent”); claims 1, 3-5, 8-17, 19-21, and 23 of United States Patent No. 6,606,346 (“the ‘346 patent”); and various other claims of United States Patent Nos. 6,651,000, 6,704,651, 6,937,187, and 7,158,080. The complaint names five respondents: SiRF Technology, Inc.; Pharos Science & Applications, Inc.; MiTAC International Corp.; Mio Technology Ltd., USA; and E-TEN Information Systems Co., Ltd. (collectively, “respondents”).

On December 17, 2007, Global Locate moved to amend the complaint and notice of investigation by terminating the investigation with regard to claims 1, 3, 8, 9, 10, and 23 of the ‘346 patent and by adding claims 2, 6, 11, 14, 18, and 19 of the ‘801 patent. Global Locate also sought to add Broadcom Corporation (“Broadcom”) as a complainant, because Broadcom recently acquired Global Locate. Respondents did not oppose termination of the investigation as to the claims of the ‘346 patent, but did oppose the addition of the claims of the ‘801 patent and the addition of Broadcom to the investigation. The Commission investigative attorney supported Global Locate's motion.

On February 5, 2008, the ALJ granted Global Locate's motion, finding that, pursuant to Commission Rule 210.14(b)(1) (19 CFR **210.14(b)(1)), there was good cause to amend the complaint and notice of investigation. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: February 25, 2008.
Marilyn R. Abbott,
Secretary to the Commission.

[FR Doc. E8-3979 Filed 2-29-08; 8:45 am]

BILLING CODE 7020-02-P